DEPARTMENT OF THE TREASURY

Treasury Advisory Committee on Commercial Operations of the U.S. Customs Service

AGENCY: Departmental Offices, Treasury.

ACTION: Notice of meeting and announcement of membership.

SUMMARY: This notice announces the date, time, and location for the second meeting of the eighth term of the Treasury Advisory Committee on Commercial Operations (COAC), and the provisional agenda for consideration by the Committee.

DATES: The next meeting of the Treasury Advisory Committee on Commercial Operations of the U.S. Customs Service will be held on Friday, April 4, 2003, at 9 a.m. at the U.S. Customs Service, in the Ronald Reagan Building, located at 13th Street and Pennsylvania Avenue, NW., Washington, DC. (Main entrance off of 14th Street) The duration of the meeting will be approximately four hours, starting at 9 a.m.

FOR FURTHER INFORMATION CONTACT: Robyn Day at 202-927-1440.

At this meeting, the Advisory Committee is expected to pursue the following agenda. The agenda may be modified prior to the meeting.

Agenda:

(1) Customs Business

(2) Customs Trade Partnership Against Terrorism, 24-hr. Manifest Rules, Customs Structure in Department of Homeland Security

(3) Merchandise Processing Fee; Proper Deduction of Freight & Other Costs from Customs Value

(4) OR&R

(5) Committee Administration

(6) Agenda Items for Next Meeting

SUPPLEMENTARY INFORMATION: The meeting is open to the public; however, participation in the Committee's deliberations is limited to Committee members, Customs and Treasury Department staff, and persons invited to attend the meeting for special presentations. A person other than an Advisory Committee member who wishes to attend the meeting should contact Robyn Day for pre-clearance.

Dated: March 7, 2003.
Timothy E. Skud,
Deputy Assistant Secretary.

[FR Doc. 03-6050 Filed 3-12-03; 8:45 am]

BILLING CODE 4810-25-P